DEPARTMENT OF DEFENSE

Office of the Secretary

Charter Renewal of Department of Defense Federal Advisory Committees—Reserve Forces Policy Board

AGENCY: Department of Defense (DoD).

ACTION: Charter renewal of Federal advisory committee.

SUMMARY: The DoD is publishing this notice to announce that it is renewing the charter for the Reserve Forces Policy Board (RFPB).

FOR FURTHER INFORMATION CONTACT: Jim Freeman, DoD Advisory Committee Management Officer, 703-692-5952.

SUPPLEMENTARY INFORMATION: The RFPB's charter is being renewed pursuant to 10 U.S.C. 175 and 10301(a) in accordance with the Federal Advisory Committee Act (FACA) (5 U.S.C., Appendix) and 41 CFR 102-3.50(a). The charter and contact information for the RFPB's Designated Federal Officer (DFO) are found at https://www.facadatabase.gov/FACA/apex/FACAPublicAgencyNavigation.

Pursuant to 10 U.S.C. 10301(b), the RFPB shall serve as an independent adviser to provide advice and recommendations on strategies, policies, and practices designed to improve and enhance the capabilities, efficiency, and effectiveness of the reserve components. The RFPB may act on those matters referred to it by the Chair and on any matter raised by a member of the RFPB or the Secretary of Defense. All RFPB work, including subcommittee work, will be in response to written terms of reference or taskings approved by the Secretary of Defense or the Deputy Secretary of Defense (“the DoD Appointing Authority”), or the Under Secretary of Defense for Personnel and Readiness (USD(P&R)) unless otherwise provided by statute or Presidential directive.

Consistent with the provisions of 10 U.S.C. 10301(c), the RFPB shall be composed of 20 members, appointed or designated as follows: (a) A civilian appointed by the Secretary of Defense from among persons determined by the Secretary to have the knowledge of, and experience in, policy matters relevant to national security and reserve component matters necessary to carry out the duties of the RFPB, who shall serve as chair of the RFPB. (b) Two active or retired reserve officers or enlisted members designated by the Secretary of Defense upon recommendation of the Secretary of the Army: One of whom shall be a member of the Army National Guard of the United States or a former member of the Army National Guard of the United States in the Retired Reserve; and one of whom shall be a member or retired member of the Army Reserve. (c) Two active or retired reserve officers or enlisted members designated by the Secretary of Defense upon the recommendation of the Secretary of the Navy: One of whom shall be an active or retired officer of the Navy Reserve and one of whom shall be an active or retired officer of the Marine Corps Reserve. (d) Two active or retired reserve officers or enlisted members designated by the Secretary of Defense upon the recommendation of the Secretary of the Air Force: One of whom shall be a member of the Air National Guard of the United States or a former member of the Air National Guard of the United States in the Retired Reserve; and one of whom shall be a member or retired member of the Air Force Reserve. (e) One active or retired reserve officer or enlisted member of the U.S. Coast Guard designated by the Secretary of Homeland Security. (f) Ten persons appointed or designated by the Secretary of Defense, each of whom shall be a U.S. citizen having significant knowledge of and experience in policy matters relevant to national security and reserve component matters and shall be one of the following: An individual not employed in any Federal or State department or agency, an individual employed by a Federal or State department or agency, an officer of a regular component of the armed forces on active duty, or an officer of a reserve component of the armed forces in an active status, who is serving or has served in a senior position on the Joint Staff, the headquarters staff of a combatant command, or the headquarters staff of an armed force; and has experience in joint professional military education, joint qualification, and joint operations matters. (g) A reserve officer of the Army, Navy, Air Force, or Marine Corps who is a general or flag officer recommended by the chair and designated by the Secretary of Defense, who shall serve without vote, as Military adviser to the Chair; Military executive officer of the RFPB; and Supervisor of the operations and staff of the RFPB. (h) A senior enlisted member of a reserve component recommended by the Chair and designated by the Secretary of Defense, who shall serve without vote as enlisted military adviser to the Chair.

The appointment of RFPB members will be approved by the DoD Appointing Authority for a term of service of one-to-four years, with annual renewals, in accordance with DoD policy and procedures. No member, unless approved by the DoD Appointing Authority, may serve more than two consecutive terms of service on the RFPB, to include its subcommittees, or serve on more than two DoD Federal advisory committees at one time.

RFPB members who are not full-time or permanent part-time Federal civilian officers or employees, or active duty members of the Uniformed Services, shall be appointed as experts or consultants pursuant to 5 U.S.C. 3109 to serve as special government employee members. RFPB members who are full-time or permanent part-time Federal civilian officers or employees, or active duty members of the Uniformed Services, shall be designated pursuant to 41 CFR 102-3.130(a) to serve as regular government employee members.

All members of the RFPB are appointed to exercise their own best judgment on behalf of the DoD, without representing any particular point of view, and to discuss and deliberate in a manner that is free from conflicts of interest. With the exception of reimbursement of official RFPB related travel and per diem, RFPB members serve without compensation.

The public or interested organizations may submit written statements to the RFPB about the RFPB's mission and functions. Written statements may be submitted at any time or in response to the stated agenda of planned meeting of the RFPB. All written statements shall be submitted to the DFO for the RFPB, and this individual will ensure that the written statements are provided to the membership for their consideration.

Dated: May 5, 2022.
Aaron T. Siegel,
Alternate OSD Federal Register Liaison Officer, Department of Defense.

[FR Doc. 2022-10069 Filed 5-10-22; 8:45 am]

BILLING CODE 5001-06-P